DEPARTMENT OF ENERGY

Orders Granting Authority To Import and Export Natural Gas, To Export Liquefied Natural Gas, Vacating Authority, Denying Request for Rehearing, and Denying Motion for Opinion and Order on Application During October 2016

TRANSCANADA PIPELINES LIMITED | FE Docket No. 15-124-NG
SABINE PASS LIQUEFACTION, LLC | FE Docket No. 15-63-LNG
CAMERON LNG, LLC | FE Docket No. 16-34-LNG
SEAONE GULFPORT, LLC | FE Docket No. 16-22-CGL
CLEANCOR ENERGY SOLUTIONS | FE Docket No. 16-132-LNG
KOCH ENERGY SERVICES, LLC | FE Docket No. 16-138-NG
UNITED STATES GYPSUM COMPANY | FE Docket No. 16-133-NG
SPARK ENERGY GAS, LLC | FE Docket No. 16-164-NG
TRANSCANADA PIPELINES LIMITED | FE Docket No. 16-157-NG
SENECA RESOURCES CORPORATION | FE Docket No. 16-118-NG
CIMA ENERGY, LTD. | FE Docket No. 16-134-NG
PLYMOUTH ROCK ENERGY, LLC | FE Docket No. 16-135-NG
CITY OF GLENDALE WATER AND POWER | FE Docket No. 16-136-NG
DTE GAS COMPANY | FE Docket No. 16-137-NG
ALLIANCE CANADA MARKETING LP | FE Docket No. 16-139-NG

AGENCY: Office of Fossil Energy, Department of Energy.

ACTION: Notice of orders.

SUMMARY: The Office of Fossil Energy (FE) of the Department of Energy gives notice that during October 2016, it issued orders granting authority to import and export natural gas, to export liquefied natural gas (LNG), vacating authority, denying request for rehearing, and denying motion for opinion and order on application. These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on November 18, 2016.
John A. Anderson,
Director, Office of Regulation and International Engagement, Office of Oil and Natural Gas.

Appendix

DOE/FE Orders Granting Import/Export Authorizations
3714-A | 10/28/16 | 15-124-NG | TransCanada Pipelines Limited | Order vacating blanket authority to import/export natural gas from/to Canada.
3792-A | 10/20/16 | 15-63-LNG | Sabine Pass Liquefaction, LLC | Opinion and Order Denying Request for Rehearing of Order granting Long-term, Multi-contract authority to export LNG by vessel from Sabine Pass LNG Terminal located in Cameron Parish, Louisiana, to Non-Free Trade Agreement Nations.
3904 | 10/02/16 | 16-34-LNG | Cameron LNG, LLC | Order granting blanket authority to export LNG by vessel from the Cameron LNG Terminal located in Cameron and Calcaseiu Parishes, Louisiana.
3905 | 10/17/16 | 16-22-CGL | SeaOne Gulfport, LLC | Order denying Motion for Opinion and Order on Application.
3906 | 10/11/16 | 16-132-LNG | Cleancor Energy Solutions | Order granting blanket authority to export LNG to Canada/Mexico by truck.
3907 | 10/13/16 | 16-138-NG | Koch Energy Services, LLC | Order granting blanket authority to import/export natural gas from/to Mexico.
3908 | 10/13/16 | 16-133-NG | United States Gypsum Company | Order granting blanket authority to import natural gas from Canada.
3910 | 10/28/16 | 16-164-NG | Spark Energy Gas, LLC | Order granting blanket authority to import natural gas from Canada.
3911 | 10/28/16 | 16-157-NG | TransCanada Pipelines Limited | Order granting blanket authority to import/export natural gas from/to Canada.
3912 | 10/31/16 | 16-118-NG | Seneca Resources Corporation | Order granting blanket authority to export natural gas to Canada.
3913 | 10/31/16 | 16-134-NG | CIMA Energy, Ltd. | Order granting blanket authority to import/export natural gas from/to Canada/Mexico.
3914 | 10/31/16 | 16-135-NG | Plymouth Rock Energy, LLC | Order granting blanket authority to import natural gas from Canada.
3915 | 10/31/16 | 16-136-NG | City of Glendale Water and Power | Order granting blanket authority to import natural gas from Canada.
3916 | 10/31/16 | 16-137-NG | DTE Gas Company | Order granting blanket authority to import/export natural gas from/to Canada.
3917 | 10/31/16 | 16-139-NG | Alliance Canada Marketing LP | Order granting blanket authority to import natural gas from Canada.

[FR Doc. 2016-28501 Filed 11-25-16; 8:45 am]

BILLING CODE 6450-01-P